DEPARTMENT OF COMMERCE

National Oceanic and Atmospheric Administration

RIN 0648-XG006

North Pacific Fishery Management Council; Public Meeting

AGENCY: National Marine Fisheries Service (NMFS), National Oceanic and Atmospheric Administration (NOAA), Commerce.

ACTION: Notice of public meeting.

SUMMARY: The North Pacific Fishery Management Council (Council) Scallop Plan Team will meet on February 21, 2018, in Kodiak, AK.

DATES: The meeting will be held on Wednesday, February 21, 2018, from 9 a.m. to 5 p.m. Alaska Time.

ADDRESSES: The meeting will be held at the Alaska Department of Fish and Game Office, 351 Research Ct., Kodiak, AK 99615.

Council address: North Pacific Fishery Management Council, 605 W 4th Ave., Suite 306, Anchorage, AK 99501-2252; telephone: (907) 271-2809.

FOR FURTHER INFORMATION CONTACT: Jim Armstrong, Council staff; telephone: (907) 271-2809.

SUPPLEMENTARY INFORMATION:

Agenda

Wednesday, February 21, 2018

The Council's Scallop Plan Team will update the status of the Statewide Scallop Stocks and Stock Assessment and Fishery Evaluation (SAFE) report, including catch specification recommendations for the 2018 fishing year. Additionally, there will be discussion of a scallop age-structured model, scallop fishery economics and the federal license limitation program, the scallop assessment program, survey plans for 2018, potential State regulatory changes for the scallop fishery, and a review and update of scallop research priorities. The agenda is subject to change and will be posted at http://www.npfmc.org/.

Special Accommodations

The meeting is physically accessible to people with disabilities. Requests for sign language interpretation or other auxiliary aids should be directed to Shannon Gleason at (907) 271-2809 at least 7 working days prior to the meeting date.

Dated: February 1, 2018.
Tracey L. Thompson,
Acting Deputy Director, Office of Sustainable Fisheries, National Marine Fisheries Service.

[FR Doc. 2018-02387 Filed 2-6-18; 8:45 am]

BILLING CODE 3510-22-P